DEPARTMENT OF HEALTH AND HUMAN SERVICES

Health Resources and Services Administration

Statement of Organization, Functions and Delegations of Authority

This notice amends Part R of the Statement of Organization Functions and Delegations of Authority of the Department of Health and Human Services (DHHS), Health Resources and Services Administration (HRSA) (60 FR 56605, as amended November 6, 1995; as last amended at 68 FR 787-793, January 7, 2003). This notice is to amend the functional statements of the Bureau of Primary Health Care. Specifically, this notice (1) abolishes in their entirety the Division of Community and Migrant Health and the Division of Programs for Special Populations; (2) revise the Office of the Associate Administrator; (3) establish the Office of Program Support; the Office of Policy, Evaluation and Data; the Office of Minority and Special Populations; the Division of Health Center Development; the Division of Health Center Management; the Division of Clinical Quality; and the Division of State and Community Assistance.

Section RC-00 Mission

The Bureau of Primary Health Care (BPHC) directs national health programs which improve the health of the Nation by assuring access to high quality comprehensive preventive and primary health care services and improving the health status of the Nation's underserved and vulnerable populations.

Section RC-10 Organization

The Bureau of Primary Health Care (BPHC) headed by the Associate Administrator for Primary Health Care reports directly to the Administrator, Health Resources and Services Administration. The BPHC includes the following components:

(1) Office of the Associate Administrator (RC)

(2) Office of Policy, Evaluation, and Data (RCE)

(3) Office of Minority and Special Populations (RCG)

(4) Division of Health Center Development (RCH)

(5) Division of Health Center Management (RCJ)

(6) Division of Clinical Quality (RCK)

(7) Division of State and Community Assistance (RCL)

(8) Division of National Hansen's Disease Program (RC7)

(9) Division of Immigration Health Services (RC9)

1. In the Office of the Associate Administrator Delete the Migrant Health Advisory Council Function and Place It in the Office of Minority and Special Populations. Revise the Functional Statement of the Office of the Associate Administrator as Follows:

Office of the Associate Administrator (RC)

Provides overall leadership, direction, coordination, and strategic planning in support of Bureau programs. Specifically: (1) Has lead responsibility to bring primary health care services to the Nation's neediest communities; (2) serves as a central point of contact for Bureau communication and information; (3) establishes program policies, goals, and objectives and provides oversight as to their execution; (4) interprets program policies, guidelines, and priorities; (5) stimulates, coordinates and evaluates program development and progress; (6) maintains effective relationships with HRSA, other Department of Health and Human Services (HHS) organizations, other Federal agencies, State and local governments, and other public and private organizations concerned with primary health and improving the health status of the Nation's underserved and vulnerable populations; and (7) plans, directs, coordinates and evaluates Bureau-wide administrative management activities; (8) assures that BPHC's funding recommendations are consistent with authorizing legislation, program expectations and HHS and HRSA policies.

2. Establish the Office of Office of Policy, Evaluation and Data as Follows:

Office of Policy, Evaluation and Data

(1) Provides leadership, direction, and overall coordination of the analysis and clearance of policy across Bureau programs; (2) provides leadership, direction, and coordination for health workforce planning as it supports health center development; (3) serves as focal point to design, establish and implement an evaluation plan for assessing and improving program performance; (4) serves as the focal point for the development and monitoring of the Bureau's Strategic Plan and annual spending plans; (5) provides leadership and overall coordination for tracking and monitoring health center growth; (6) serves as focal point for external communication, publication, and dissemination; (7) provides surveillance, monitoring, and analysis of a variety of media, newsletters, trade journals, and periodicals in order to detect external trends which could potentially affect grantee performance; (8) detects potential trends in program performance data on a State, regional, and national level to inform the development of program policies and the design of evaluation studies to improve program performance; (9) provides consultation to and coordinates activities with other components within HRSA, other Federal agencies, consumer and constituency groups, national and state organizations involved in policy, evaluation and data; and (10) manages the Bureau's executive secretariat functions.

3. Establish the Office of Minority and Special Populations as Follows:

Office of Minority and Special Populations (RCG)

Provides overall coordination of Bureau activities relating to the delivery of health services to special populations such as migrant and seasonal farmworkers, homeless persons, women, and other minority and special populations, including residents of public housing, students served by School-based Health Centers, and Asian American Pacific Islanders. Specifically, (1) ensures that the needs and special circumstances of special populations and the provider organizations that serve them are addressed in internal BPHC policies; (2) advises BPHC staff and leadership about the special needs of special populations; (3) coordinates with private, professional, and academic health care organizations in developing and designing public health interventions aimed at reducing disparities in the health status of the special populations; (4) represents BPHC at regional and national meetings focused on special population issues, and shares information regarding the BPHC's response to such issues; and (5) provides staff support to the National Advisory Council on Migrant Health.

4. In the Division of Programs for Special Populations Delete the Community-based Systems Function and Place It in the Division of Health Center Development (DHCD). Establish the Division of Health Center Development as Follows:

Division of Health Center Development (RCH)

Serves as the organizational focus of the competitive grant process for BPHC. Specifically, DHCD: (1) Provides leadership and direction, including tactical planning for the development and expansion of new health centers, health systems infrastructure, and pharmacy services; (2) manages and expands the number and types of organizations that participate in the 340B drug pricing program; (3) provides pre-application assistance to communities and community-based organizations related to health center development, health systems infrastructure development and pharmacy services development; (4) provides consultation to and coordinates activities with other components within HRSA, other Federal agencies, consumer and constituency groups, national and state organizations involved in implementation of BPHC's competitive process.

5. In the Division of Programs for Special Populations Delete the Functions Guidance Development and Implementation of Plans To Assure Attainment of Measurable Outcomes and Place It in the Division of Health Center Management (DHCM). Establish the Division of Health Center Management as Follows:

Division of Health Center Management (RCJ)

Manages BPHC's funded grants and activities and manages funds and other resources related to increasing clinical, managerial, and financial efficiency. Specifically, the DHCM: (1) Manages the post-award administration of the Consolidated Health Center Program, Black Lung Clinics Program, the Radiation Exposure Screening and Education Program, and the Native Hawaiian Health Care Program; (2) serves as BPHC representative to organizations receiving Bureau grants; (3) promotes a continued focus on efficient and effective care for vulnerable populations, including people at or below 200 percent of poverty, racial and cultural minorities, uninsured people, students served by School-based Health Centers, migrant and seasonal farm workers, homeless individuals and families, public housing residents, and residents of rural and sparsely populated areas; (4) formulates and interprets continuation application guidance, program policy, legislative implementation proposals, regulation, and industry standards with the Division of Clinical Quality and Office Policy Evaluation Data; (5) monitors the performance of specific BPHC funded grants and makes programmatic recommendations; (6) reviews findings and recommendations of periodic and episodic grantee assessments, planning actions needed to assure continuity of services to vulnerable populations and appropriate use of Federal resources; (7) provides consultation to and coordinates activities with other components of HRSA, other Federal agencies, consumer and constituency groups, national and state organizations involved in implementation of program activities; (8) provides technical guidance to grantees on the management and integration of community-based systems of care, the adaptation of successful strategies/models, and the resolution of difficult issues; and (9) identifies and coordinates training and technical assistance needs of service delivery programs with the Division of State and Community Assistance.

6. In the Division of Community and Migrant Health Delete the Function Coordinating and Establishing Guidelines and Standards for Professional Services and Staff Development in BPHC Funded Grants Function and Place it in the Division of Clinical Quality (DQA). Establish the Division of Clinical Quality as Follows:

Division of Clinical Quality (RCK)

(1) Provides clinical and quality leadership for BPHC to meet the initiative to expand health centers; (2) supports BPHC functions to assess the Nation's health care needs of underserved populations and to assist communities in providing quality primary health care services to the underserved and moving towards eliminating health disparities; (3) supports BPHC through assessment of clinical, quality improvement, risk management, and patient safety activities to improve policies, and programs for primary health care including clinical information systems; (4) serves as BPHC clinical and quality liaison with other DHHS organizations, other Federal, State, and private agencies, and organizations for clinical and quality issues for community based primary health care for underserved populations; and (5) coordinates clinical technical assistance program for BPHC health professional and non-health professional staff.

7. In the Immediate Office of the Associate Administrator Delete the Function Integration of State-Based activities into BPHC's Programs and Place It in the Division of State and Community Assistance (DSCA). Establish the Division of State and Community Assistance as Follows:

Division of State and Community Assistance (RCL)

Specifically: (1) Collaborates with other BPHC Divisions and Offices in identifying technical assistance and training needs; (2) provides tactical planning for the development, implementation and evaluation of technical and training assistance; (3) develops mechanisms and resources to address technical assistance and training needs; (4) directs and manages technical assistance resources and activities for BPHC grantees and contractors; (5) manages the loan guarantee program; (6) manages the post-award process for Healthy Communities Access Program, Primary Care Associations, Primary Care Offices, Integrated Services Development Initiative, and Shared Integrated Management Information Systems; (7) coordinates state-based planning/activities for health center strengthening, expanding and quality improvement (Statewide Strategic Planning); (8) provides state-specific policy surveillance; (9) provides consultation to and coordinates activities related to technical assistance and state activities in support of the initiatives to expand health centers with other components of HRSA, other Federal agencies, consumer and constituency groups, national and state organizations; (10) monitors the recovery of high-risk grantees.

Section RC-30 Delegation of Authority

All delegations of authority which were in effect immediately prior to the effective date hereof have been continued in effect in them or their successors pending further re-delegation. I hereby ratify and affirm all actions taken by any DHHS official which involves the exercise of these authorities prior to the effective date of this delegation.

This reorganization is effective upon the date of signature.

Dated: February 14, 2003.
Elizabeth M. Duke,
Administrator.

[FR Doc. 03-4155 Filed 2-20-03; 8:45 am]

BILLING CODE 4165-15-P